DEPARTMENT OF THE INTERIOR

Bureau of Land Management

[NV-930-1430-ET; Nev-059798]

Public Land Order No. 7443; Partial Revocation of Public Land Order No. 3512; Nevada

AGENCY: Bureau of Land Management, Interior.

ACTION: Public land order.

SUMMARY: This order partially revokes a public land order insofar as it affects 700.12 acres of public land withdrawn for use by the Bureau of Reclamation for the Robert B. Griffith Water Project. The land is no longer needed for the purpose for which it was withdrawn and the revocation is needed to facilitate a pending land exchange. The land will remain closed to location and entry under the mining laws, and from operation of the mineral leasing and geothermal leasing laws in accordance with Section 4(c) of the Southern Nevada Public Land Management Act of 1998.

EFFECTIVE DATE: June 12, 2000.

FOR FURTHER INFORMATION CONTACT: Dennis J. Samuelson, BLM Nevada State Office, P.O. Box 12000, Reno, Nevada 89520, 775-861-6532.

By virtue of the authority vested in the Secretary of the Interior by Section 204 of the Federal Land Policy and Management Act of 1976, 43 U.S.C. 1714 (1994), it is ordered as follows:

1. Public Land Order No. 3512, which withdrew public land for the Bureau of Reclamation's Robert B. Griffith Project, is hereby revoked insofar as it affects the following described land:

Mount Diablo Meridian

T. 21 S., R. 63 E.,

Sec. 26, lots 1, 6 to 13, inclusive, 16, 18 to 21, inclusive, and 23;

Sec. 27, SE¼;

Sec. 34, lots 8, 10 to 13, inclusive, 15, 17, 24, and 26.

Sec. 35, lot 11.

The area described contains 700.12 acres in Clark County.

2. The land described in paragraph 1 is hereby made available for disposal in accordance with Section 4 of the Southern Nevada Public Land Management Act of 1998, Public Law 105-263, 112 Stat. 2343, et seq.

Dated: April 28, 2000.
Sylvia V. Baca,
Assistant Secretary of the Interior.

[FR Doc. 00-11850 Filed 5-10-00; 8:45 am]

BILLING CODE 4310-HC-P